DEPARTMENT OF LABOR

Wage and Hour Division

29 CFR Part 531

RIN 1235-AA21

Tip Regulations Under the Fair Labor Standards Act (FLSA)

AGENCY: Wage and Hour Division, Department of Labor.

ACTION: Proposed rule; extension of comment period.

SUMMARY: This document extends the period for filing written comments until February 5, 2018 on the proposed rulemaking: Tip Regulations Under the Fair Labor Standards Act. The Notice of Proposed Rulemaking (NPRM) was published in the Federal Register on December 5, 2017. The Department of Labor (Department) is taking this action in order to provide interested parties additional time to submit comments.

DATES: The comment period for the proposed rule published December 5, 2017, at 82 FR 57395, is extended. The agency must receive comments on or before February 5, 2018. Comments must be received by 11:59 p.m. on February 5, 2018.

ADDRESSES: To facilitate the receipt and processing of written comments on this NPRM, the Department encourages interested persons to submit their comments electronically. You may submit comments, identified by Regulatory Information Number (RIN) 1235-AA21, by either of the following methods:

Electronic Comments: Follow the instructions for submitting comments on the Federal eRulemaking Portal http://www.regulations.gov.

Mail: Address written submissions to Melissa Smith, Director of the Division of Regulations, Legislation, and Interpretation, Wage and Hour Division, U.S. Department of Labor, Room S-3502, 200 Constitution Avenue NW, Washington, DC 20210.

Instructions: This NPRM is available through the Federal Register and the http://www.regulations.gov website. You may also access this document via the Wage and Hour Division's (WHD) website at http://www.dol.gov/whd/. All comment submissions must include the agency name and Regulatory Information Number (RIN 1235-AA21) for this NPRM. Response to this NPRM is voluntary. The Department requests that no business proprietary information, copyrighted information, or personally identifiable information be submitted in response to this NPRM. Submit only one copy of your comment by only one method (e.g., persons submitting comments electronically are encouraged not to submit paper copies). Please be advised that comments received will become a matter of public record and will be posted without change to http://www.regulations.gov, including any personal information provided. All comments must be received by 11:59 p.m. on the date indicated for consideration in this NPRM; comments received after the comment period closes will not be considered. Commenters should transmit comments early to ensure timely receipt prior to the close of the comment period. Electronic submission via http://www.regulations.gov enables prompt receipt of comments submitted as DOL continues to experience delays in the receipt of mail in our area. For access to the docket to read background documents or comments, go to the Federal eRulemaking Portal at http://www.regulations.gov.

FOR FURTHER INFORMATION CONTACT: Melissa Smith, Director of the Division of Regulations, Legislation, and Interpretation, Wage and Hour Division, U.S. Department of Labor, Room S-3502, 200 Constitution Avenue NW, Washington, DC 20210, telephone: (202) 693-0406 (this is not a toll-free number). Copies of this NPRM may be obtained in alternative formats (Large Print, Braille, Audio Tape or Disc), upon request, by calling (202) 693-0675 (this is not a toll-free number). TTY/TDD callers may dial toll-free 1 (877) 889-5627 to obtain information or request materials in alternative formats.

Questions of interpretation and/or enforcement of the agency's regulations may be directed to the nearest WHD district office. Locate the nearest office by calling the WHD's toll-free help line at (866) 4US-WAGE ((866) 487-9243) between 8 a.m. and 5 p.m. in your local time zone, or log onto WHD's website at http://www.dol.gov/whd/america2.htm for a nationwide listing of WHD district and area offices.

SUPPLEMENTARY INFORMATION:

I. Request for Comment

On December 5, 2017, the Department published a NPRM and request for comments in the Federal Register (82 FR 57395), proposing to rescind portions of its tip regulations issued pursuant to the Fair Labor Standards Act. The NPRM also requested that interested parties from the public submit comments on the NPRM on or before January 4, 2018.

The Department has decided to provide an extension of the period for submitting public comment until February 5, 2018.

Bryan L. Jarrett,
Acting Administrator, Wage and Hour Division.

[FR Doc. 2017-27085 Filed 12-12-17; 4:15 pm]

BILLING CODE 4510-27-P